DEPARTMENT OF LABOR

Employment and Training Administration

[TA-W-65,601]

GMVM Orion Assembly, Orion, MI; Notice of Termination of Investigation

Pursuant to Section 221 of the Trade Act of 1974, as amended, an investigation was initiated on March 16, 2009 in response to a worker petition filed by the International Union, United Automobile, Aerospace and Agricultural Implement Workers of America (UAW), Local 5960, on behalf of workers of GMVM Orion Assembly, Orion, Michigan.

The petitioner has requested that the petition be withdrawn. Consequently, the investigation has been terminated.

Signed at Washington, DC, this 31st day of March 2009.
Richard Church,
Certifying Officer, Division of Trade Adjustment Assistance.

[FR Doc. E9-10229 Filed 5-4-09; 8:45 am]

BILLING CODE 4510-FN-P